SMALL BUSINESS ADMINISTRATION

[Declaration of Economic Injury Disaster #9H20]

State of New York (and Contiguous Counties in the State of New Jersey)

New York County and the contiguous counties of Bronx, Kings, and Queens in the State of New York, and Bergen and Hudson Counties in New Jersey constitute an economic injury disaster loan area as a result of a water main break, and subsequent flooding, that occurred on March 2, 2000. Eligible small businesses and small agricultural cooperatives without credit available elsewhere may file applications for economic injury assistance as a result of this disaster until the close of business on February 5, 2001 at the address listed below or other locally announced locations: U.S. Small Business Administration, Disaster Area 1 Office, 360 Rainbow Blvd, South, 3rd Floor, Niagara Falls, NY 14303.

The interest rate for eligible small businesses and small agricultural cooperatives is 4 percent.

The economic injury number for the State of New Jersey is 9H2100.

(Catalog of Federal Domestic Assistance Program No. 59002)
Dated: May 3, 2000.
Aida Alvarez,
Administrator

[FR Doc. 00-11869 Filed 5-10-00; 8:45 am]

BILLING CODE 8025-01-P